DEPARTMENT OF ENERGY

Federal Energy Regulatory Commission

[Docket No. RM08-2-001]

Pipeline Posting Requirements Under Section 23 of the Natural Gas Act; Notice of Agenda for Technical Conference

March 11, 2009.

On February 24, 2009, the Commission issued a Notice of Technical Conference (February 24 Notice), to be held March 18, 2009, in the above referenced proceeding. The technical conference is being held by staff for the purpose of discussing certain issues raised in the requests for rehearing filed in response to Order No. 720.¹ As stated in the February 24 Notice, the technical conference will be held at the headquarters of the Federal Energy Regulatory Commission, 888 First Street, NE., Washington, DC, from 9 a.m. to 1 p.m. (EDT).

¹ Pipeline Posting Requirements under Section 23 of the Natural Gas Act, Order No. 720, FERC Stats. & Regs. ¶ 31,281 (2008).

Attached is an agenda for the March 18, 2009, technical conference. The February 24 Notice identified three topics for discussion: (1) The definition of major non-interstate pipelines; (2) what constitutes “scheduling” for a receipt or delivery point; and, (3) how the 15,000 MMBtu per day design capacity threshold should be applied. As reflected in the attached agenda, Panel 1 will address the first topic, with a focus on contiguous and non-contiguous networks, stub lines and other gathering issues; Panel 2 will address the second and third topics, with a focus on how pipeline systems account for high capacity receipt and delivery points (i.e., greater than 15,000 MMBtu per day) where scheduling does not occur; and, Panel 3 will focus on estimating the cost of compliance with Order No. 720.

This conference will be transcribed. There is no registration required to attend and no registration fee. For additional information, please contact Saida Shaalan of FERC's Office of Enforcement at (202) 502-8278 or by e-mail at Saida.Shaalan@ferc.gov.

Kimberly D. Bose,
Secretary.

Agenda for Technical Conference

Order No. 720 Rehearing Issues Technical Conference RM08-02-001

March 18, 2009

Commission Meeting Room

9-9:10 a.m.—Opening Remarks

9:10-9:50 a.m.—Defining Major Non-Interstate Pipelines

Assessing contiguous and non-contiguous networks

—What constitutes a contiguous pipeline system for the purpose of applying the annual 50 million MMBtu delivery threshold?

—What are the market differences between non-contiguous pipeline systems with the same owner and a single pipeline system?

Stub lines and other gathering issues

—What role do stub lines play in the market? How are they operated?

—What gathering functions do not occur upstream of a processing plant? How widespread are those activities (e.g., volumes)?

Panelists:

Representative from TPA

Representative from Southwest Gas

Representative from AGA

9:50 a.m.-12 p.m.—Accounting for High Capacity Receipt and Delivery Points (i.e., Greater than 15,000 MMBtu Per Day) Where Scheduling Does Not Occur

Is there some rule of thumb to identify points at which advance notice of receipts/deliveries is required for operational purposes?

How do companies without scheduling information address the risk of demand volatility from large scale consumers receiving unbundled service?

How do pipelines reconcile nominations with actual flows at pooled points?

Panelists:

Representative from TPA

Representative from SoCal Gas

Representative from Nicor

Representative from AGA

12:10-12:50 p.m.—Estimating the Cost of Compliance

What is the basis for cost estimates in the rehearing requests?

Are there alternative approaches that would reduce costs?

Panelists:

Representative from SoCal Gas

Representative from TPA

12:50-1 p.m.—Closing Remarks

[FR Doc. E9-5776 Filed 3-17-09; 8:45 am]

BILLING CODE 6717-01-P